DEPARTMENT OF TRANSPORTATION

Federal Railroad Administration

Petition for Modification of Single Car Air Brake Test Procedures

In accordance with part 232 of Title 49 Code of Federal Regulations (CFR), notice is hereby given that the Federal Railroad Administration (FRA) received a request for modification of the single car air brake test procedures as prescribed in 232.305(a).

The Association of American Railroads

[Docket Number FRA-2001-10819]

Pursuant to 49 CFR 232.307, the Association of American Railroads (AAR) seeks modification of the single car air brake test procedures, S-486, as prescribed in § 232.305(a) of the Brake System Safety Standards for Freight and Other Non-Passenger Trains and Equipment.

The sections, paragraphs and parts of S-486, that AAR request to be modified are as follows:

3.1.2.9—original If the car is equipped with an empty/load device, the device must be set to the LOADED position.

(Modification—3.1.2.9) If the car is equipped with an empty/load device, the device must be set to the LOADED position. For side frame sensing devices, place a block (2 inch minimum thickness) under the sensing arm. For slope sheet sensing devices, insert a pin (supplied by Ellcon-National for their empty/load device) or push in a plunger (WABTEC).

The following Note is being added to Section 3.5 System Leakage Test:

(Modification)—

Note: The hand brake Inspection (3.6) can be made while the car brake system is being charged or during the System Leakage Test (3.5)

3.5.2—original If any part of the ball is above the condemning line, it indicates that the brake system is not charged or that excessive leakage exists. Open the flowrator by-pass cock and make a complete check for leakage of all pipe connections, reservoir separation plate gasket, control valve covers and exhausts, service and emergency portion to pipe bracket gaskets, quick service exhaust valves, and vent valve exhausts. Correct any leakage found and repeat the system leakage test.

(Modification—3.5.2) If any part of the ball is above the condemning line, it indicates that the brake system is not charged or that excessive leakage exists. Open the flowrator by-pass cock and make a complete check for leakage. Check all pipe connections, reservoir separation plate gasket, control valve covers, and service and emergency portion mounting gaskets. Correct any leakage found and repeat the system leakage test. If excessive leakage still exists, check all control valve cover gaskets, quick service, manual release valve and vent valve exhausts. Correct any excessive leakage found and repeat the system leakage test.

3.6.1—original Lubricate the hand brake winding shaft and oil cups, if so equipped, with a good grade of 30W oil. With the hand brake in released position, note that the brake cylinder piston push rod(s) have returned into the brake cylinder(s). Apply the hand brake. Observe that the bell crank is in normal working range. Using a bar, determine that all shoes applied by the hand brake are firmly set against the wheels to verify that associated linkage does not bind or foul. On cars with WABCOPAC/NYCOPAC type truck mounted brakes and a hand brake that operates the brake beams on both trucks, a minimum of one shoe on each beam must be firmly set against the wheel to verify that associated linkage does not bind or foul. Release hand brake using operating wheel and/or lever. Note that drum chain is fully unwound, that bell crank, if so equipped, drops to lower limit, and that there is minimal slack in the horizontal chain.

(Modification—3.6.1) Lubricate the hand brake winding shaft and oil cups, if so equipped, with a good grade of 30W oil. With the hand brake in released position, note that the brake cylinder piston push rod(s) have returned into the brake cylinder(s). Apply the hand brake. Observe that bell crank, if so equipped, is in normal working range. Using a bar, determine that all shoes applied by the hand brake are firmly set against the wheels to verify that associated linkage does not bind or foul. On cars with WABCOPAC/NYCOPAC type truck mounted brakes and a hand brake that operates the brake beams on one or both trucks, a minimum of one shoe on each beam must be firmly set against the wheel to verify that associated linkage does not bind or foul. Release hand brake using operating wheel and/or lever. Note that drum chain is fully unwound, that bell crank, if so equipped, drops to lower limit, and that there is minimal slack in the horizontal chain.

Original—3.8.1 Measure and note brake cylinder piston travel and check all brake levers for angularity. Piston travel on standard (single capacity) 12-inch stroke body mounted brake cylinders is 7 to 9 inches. Other than standard, cars must be adjusted per badge plate or stenciling on car.

(Modification—3.8.1) Measure and note brake cylinder piston travel and check all brake levers for angularity. If piston travel is outside of the nominal range in Rule 3, piston travel must be adjusted to the initial set up dimension.

Original—3.8.2 On cars with direct acting truck mounted brakes without slack adjusters, observe that the piston travel does not exceed 3 inches (without brake shoe renewal). If piston travel exceeds 3 inches, adjustment in accordance with Instruction Pamphlet 2391 Sup.1, Paragraph 1.3.3 is required.

(Modification—The contents of this paragraph are deleted.)

Original—3.8.3 Check the entire rigging system for any binding or fouling.

(Modification—The contents of this paragraph will become the new 3.8.2. There will not be a 3.8.3.)

Original—3.9.1 On cars with less than 100 feet of brake pipe, reduce the brake pipe pressure 50 psi in Position 4 or 5, and then move the device handle to Position 3. (This must not produce an emergency application.) With the brake pipe pressure no lower than 40 psi, quickly open the test device ⅜-inch cock. This test must produce a control valve emergency application as indicated by the rapid venting of the brake pipe pressure to zero. The brake cylinder pressure must be higher than the final full service pressure noted in Paragraph 3.7.7. If the brake cylinder pressure is not higher, first soap the gauge and pressure tap before replacing any brake components. No leakage is allowed. If leakage exists at the gauge connection, release the brake, repair or replace tap or gauge and repeat this test. If emergency brake cylinder pressure still does not increase over the full service pressure, the most likely cause is a defective emergency portion, which must be replaced.

(Modification—3.9.1) Reduce the brake pipe pressure to 50 psi in Position 4 or 5, and then move the device handle to Position 3. (This must not produce an emergency application.) With the brake pipe pressure no lower than 40 psi, quickly open the test device ⅜-inch cock. On cars with brake pipe length of over 100 feet, place the device in position 4 and quickly open the test device ⅜ inch cock. This test must produce a control valve emergency application as indicated by the rapid venting of the brake pipe pressure to zero. The brake cylinder pressure must be higher than the final full service pressure noted in Paragraph 3.7.7. If the brake cylinder pressure is not higher, first soap the gauge and pressure tap before replacing any brake components. No leakage is allowed. If leakage exists at the gauge connection, release the brake, repair or replace tap or gauge and repeat this test. If emergency brake cylinder pressure still does not increase over the full service pressure, the most likely cause is a defective emergency portion, which must be replaced.

Original—3.12.3.1 Flowrator Method

(Modification—title change) Brake Cylinder Leakage Test—Flowrator Method

Original-3.12.3.2 Brake Cylinder Gauge Method

(Modification—title change) Brake Cylinder Leakage Test—Gauge Method

Original—3.15.3 If the brake cylinder gauge was installed in 3.1.2.6, MAKE CERTAIN THAT GAUGE IS REMOVED AT THIS TIME. Soap male brake cylinder pressure tap. No leakage allowed. If leakage is present, release brake and replace the brake cylinder pressure tap per section 4.4.

Original—3.15.4If the slack adjuster is found to be defective, make necessary repairs and/or replace the slack adjuster and test the slack adjuster according to Paragraph 4.1.

(Modification—The contents of 3.15.3 have been eliminated. 3.15.4 has been reworded and is now found in 3.15.3. There will no longer be a 3.15.4. 3.15.3) If slack adjuster is found to be defective, continue with the single car test. After the single car test is completed, make necessary repairs and/or replace the slack adjuster and test the slack adjuster according to Paragraph 4.1.

(Modification—A new paragraph is added. 3.16.2.1) Make certain that any block(s) that were installed between brake shoe(s) and wheel(s) in section 3.13.6 are removed at this time. If a pin was inserted into a slope sheet empty/load sensor, make certain that the pin is removed.

Original—3.16.3 Move device handle to Position 1. Note that the brake cylinder piston remains in the release position during charging.

Original—3.16.4 When the brake pipe pressure has reached a minimum of 80 psi, move the device handle to Position 5. Allow brake pipe pressure to decrease to zero psi. Note that the brakes apply thereby indicating that the brake cylinder release feature has reset.

(Modification—3.16.3 and 3.16.4 has been changed, renumbered, with additional paragraphs as follows:)

(Modification—3.16.3) Completing test on a Loaded Car or on a Car not equipped with a brake cylinder test gauge

(Modification—3.16.3.1) Move device handle to Position 1. Note the brake cylinder piston remains in the release position during charging.

(Modification—3.16.3.2) When the brake pipe pressure has reached a minimum of 80 psi, move the device handle to Position 5. Allow the brake pipe pressure to decrease to zero psi. Note that the brakes apply thereby indicating that the brake cylinder release feature has reset. Go to section 3.16.5

(Modification—3.16.4) Completing Test on an empty car equipped with empty/load and a brake cylinder test gauge.

Note: If car has defective slack adjuster, change slack adjuster and test according to Sect 4.1, and then continue test with section 3.16.4.1.

(Modification—3.16.4.1) Place the device handle in Position 1 and recharge the car until the flowrator ball floats below the top of the tube. Note that the brake cylinder piston remains in the release position during charging.

(Modification—3.16.4.2) Place the handle in Position 5 and allow the brake pipe pressure to decrease to zero psi. Note that the brakes apply thereby indicating that the cylinder release feature has reset. The brake cylinder pressure must be at least 20 psi lower than the final full service pressure noted in Paragraph 3.7.7. Probable cause for failure of the empty/load equipment, if the equipment has a separate sensing device, is in the adjustment of the sensor device or the sensor device itself, and the next likely cause is the empty/load valve itself.

(Modification—3.16.5) If brake cylinder gauge was installed in 3.1.2.6, MAKE CERTAIN THAT GAUGE IS REMOVED AT THIS TIME. Soap male brake cylinder pressure tap. No leakage is allowed. If leakage is present, drain brake cylinder, release brake and replace the brake cylinder pressure tap per section 4.4.

(Mod—3.16.6) If the empty/load was tested, soap the empty/load device, the equalizing reservoir and associated piping. If leakage is present, drain brake cylinder, release and replace the defective empty/load equipment and test per section 4.6.

Original—3.17.2 If empty/load device on an empty car was set to loaded position, return to empty position.

Original—3.17.3 To prevent possible overcharge problems, drain car reservoirs.

Original—3.17.4 Shut off air supply to test device, or place device handle in Position 3.

Original—3.17. Open ⅜-inch cock, and disconnect test device. Remove the dummy coupling

Original—3.17.6 Make certain that any block(s) that were installed or brake shoe(s) that were removed in section 3.13.6 are removed or replaced.

Original—3.17.7 If required, secure the car to prevent movement.

(Modification—3.17.2 through 3.17.7 has been changed as follows:)

(Modification—3.17.2) To prevent possible overcharge problems, drain car reservoirs. If empty/load device on an empty car was set to loaded position and was not set to empty position in section 3.16.2, return setting to empty position.

(Modification—3.17.3) Shut off air supply to test device, or place device handle in Position 3.

(Modification—3.17.4) Open ⅜-inch cock, and disconnect test device. Remove dummy coupling.

(Modification—3.17.5) If required, secure the car to prevent movement.

original—4.1.20 Measure piston travel. Piston travel should be nominally 7½ inches or as described on badge plate.

(Modification—4.1.2) Measure piston travel. Piston travel should be nominally 7½ inches or as described in Rule 3.

Original—4.1.4 Install block(s) between brake shoe and wheel or remove brake shoe(s) at one end of car. Cars with multiple slack adjusters must have blocks installed at each slack adjuster location.

(Modification—4.1.4) Install block(s) between brake shoe and wheel at one end of car. Cars with multiple slack adjusters must have blocks installed at each slack adjuster location.

Original—4.1.8 Place device handle in Position 1 and completely recharge car. Remove block(s) or reinstall brake shoe(s).

(Modification—4.1.8) Place device handle in Position 1 and completely recharge car. Remove block(s) between shoe(s) and wheel(s).

Original—4.4.3 Complete air brake test as described in 3.17.

(Modification—4.4.3) If empty/load device on an empty car was set to loaded position, return to empty position. Complete air test as described in 3.17.

(Modification—The following paragraphs have been added:)

(Modification—4.5) Brake Cylinder Leakage Test Using Gauge.

Note: If the car is equipped with an empty/load device, the car must be set to the LOADED position. If the car is equipped with a brake cylinder pressure tap, install a brake cylinder pressure gauge. If the car does not have a tap, go to section 4.2, Retaining Valve Test.

(Modification—4.5.1) With the control valve cut in, move test device handle to Position 1 and fully charge the system to 90 psi. Move the reducing valve handle to the low-pressure position while leaving device handle in Position 1. Brake pipe pressure will continue to drop to 80 psi. After the brake pipe pressure has stabilized at 80 psi, wait 3 minutes, then note pressure on brake cylinder gauge. Wait another one minute, then recheck brake cylinder gauge. No more than 1 psi increase or decrease in brake cylinder pressure is allowed. If brake cylinder pressure decreases, probable cause is a leak in the brake cylinder or its associated piping. If brake cylinder pressure increases, probable cause is either a defective service portion or a defective emergency portion, finish test as described in Paragraph 3.17.

Note: To determine which portion may be defective, move the device handle to position 5 and increase the brake application to a 30 psi reduction, then return the device handle to position 3. After the brake pipe pressure has stabilized, wait 2 minutes, then note brake cylinder gauge. Wait another one minute, then check brake cylinder gauge. If the brake cylinder pressure has increased, the emergency portion is defective, or an internal leak exists in the reservoir separation plate between the auxiliary and emergency reservoirs. If the brake cylinder pressure did not increase, then the service portion is defective.

(Modification—4.6) Empty/Load Test.

Note: When empty/load equipment is installed on a car, the equipment must be installed and adjusted according to OEM instructions. The following test is to be used after empty/load equipment has been replaced.

(Modification—4.6.1) Install brake cylinder pressure tap on car unless the car is already so equipped. Install brake cylinder pressure gauge. Begin test with car fully charged and device handle in Position 1. Make sure the empty/load equipment is set for LOADED position.

(Modification—4.6.2) Move the reducing valve handle to the low-pressure position while leaving device handle in Position 1. Brake pipe pressure will continue to drop to 80 psi. After the brake pipe pressure has stabilized at 80 psi, wait 3 minutes, then note pressure on brake cylinder gauge. Wait another one minute, then recheck brake cylinder gauge. No more than a 1 psi increase or decrease in brake cylinder is allowed. If brake cylinder pressure decreases, probable cause is a leak in the brake cylinder or its associated piping. Correct leakage and continue test. If brake cylinder pressure increases, probable cause is either a defective service portion or a defective emergency portion. Replace service and/or emergency portion and make a complete single car test.

Note: To determine which portion may be defective, move the device handle to Position 5 and increase the brake application to a 30 psi reduction , then return the handle to Position 3. After the brake pipe pressure has stabilized, wait 2 minutes, then note brake cylinder gauge. Wait another one minute, then recheck brake cylinder gauge. If brake cylinder pressure has increased, the emergency portion is defective, or an internal leak exists in the reservoir separation plate between the auxiliary and emergency reservoirs. If the brake cylinder pressure did not increase, then the service portion is defective.

(Modification—4.6.3) Place the reducing valve handle to the high-pressure position and recharge the car until the flowrator ball floats below the top of the tube. Apply the brakes with a 30 psi reduction with device handle in Position 5. Record the brake cylinder pressure.

(Modification—4.6.4) Place the device handle to Position 1 and recharge the car until the flowrator ball floats below the top of the tube. Set the empty/load equipment to EMPTY position.

(Modification—4.6.5) Place device handle in Position 5 and allow the brake pipe pressure to decrease to zero psi. The brake cylinder pressure must be at least 20 psi lower than the final full service pressure noted in Paragraph 4.6.3. Probable cause for failure to the empty/load equipment, if the equipment has a separate sensing device, is in the adjustment of the sensor device or the sensor device itself, and the next most likely cause is the empty/load valve itself. Finish test as described in Paragraph 3.17.

Interested parties are invited to submit written views, data, or comments. All communications concerning these proceedings should identify the appropriate docket number (e.g., Docket Number FRA-2001-10819) and must be submitted in triplicate to the Docket Clerk, DOT Central Docket Management Facility, Room PL-401 (Plaza Level), 400 Seventh Street SW., Washington, DC 20590-0001. Comments received within 60 days of the date of this notice will be considered by FRA before final action is taken. Pursuant to § 232.307(d), if no comment objecting to the requested modification is received during the 60-day comment period or if FRA does not issue a written objection to the requested modification, the modification will become effective 15 days after the close of the 60-day comment period. All written communications concerning these proceedings are available for examination during regular business hours (9:00 a.m.—5:00 p.m.) at the above facility. All documents in the public docket are also available for inspection and copying on the Internet at the docket facility's web site at http://dms.dot.gov.

Issued in Washington, DC on October 23, 2001.
Grady C. Cothen, Jr.,
Deputy Associate Administrator for Safety Standards and Program Development.

[FR Doc. 01-27140 Filed 10-26-01; 8:45 am]

BILLING CODE 4910-06-P